AGENCY FOR INTERNATIONAL DEVELOPMENT

Senior Executive Service: Membership of Performance Review Board

ACTION: Notice.

SUMMARY: This notice provides a list of approved candidates who comprise a standing roster for service on the Agency's 2023 SES Performance Review Board. The Agency will use this roster to select SES Performance Review Board members.

FOR FURTHER INFORMATION CONTACT: Lena Travers at 202-712-5636 or ltravers@usaid.gov.

SUPPLEMENTARY INFORMATION: The standing roster is as follows:

Bader, Harry

Ball, Kimberly

Beers, Mia

Bertram, Robert

Broderick, Deborah

Brown, Erin

Buckley, Ruth

Davis, Thomas

Detherage, Maria Price

Faraj, Shereen

Feinstein, Barbara

Girod, Gayle

Gray, Jason

Jenkins, Robert

Jin, Jun

Johnson, Mark

Knudsen, Ciara

Korde, Sonali

Kuyumjian, Kent

Lucas, Rachel

Martinez, Ismael

McGill, Brian

Mitchell, Reginald

Napoli, Roman

Nims, Matthew

Ohlweiler, John

Pryor, Jeanne

Pustejovsky, Brandon

Schulz, Laura

Singh, Sukhvinder

Sokolowski, Alexander

Taylor, Margaret

Vega, Dennis

Voorhees, John

Wallace, Julia

Walther, Mark

Walton, David

Willis, Lindsey

Lena Travers,
Acting Director, Center for Performance Excellence.

[FR Doc. 2023-07001 Filed 4-4-23; 8:45 am]

BILLING CODE 6116-01-P